DEPARTMENT OF TRANSPORTATION

Federal Aviation Administration

14 CFR Part 39

[Docket No. 2000-NE-34-AD]

RIN 2120-AA64

Airworthiness Directives; Honeywell International, Inc., (Formerly AlliedSignal, Inc., and Textron Lycoming) T5311A, T5311B, T5313B, T5317A, T5317B, T53-L-11, T53-L-11A, T53-L-11B, T53-L-11C, T53-L-11D, T53-L-11A S/SA, T53-L-13B, T53-L-13B S/SA, T53-L-13B S/SB, and T53-L-703 Turboshaft Engines

AGENCY: Federal Aviation Administration, DOT.

ACTION: Notice of Proposed Rulemaking (NPRM).

SUMMARY: The Federal Aviation Administration (FAA) proposes to adopt a new airworthiness directive (AD) that is applicable to Honeywell International, Inc., (formerly AlliedSignal, Inc., and Textron Lycoming) T5311A, T5311B, T5313B, T5317A, T5317B, and former military T53-L-11, T53-L-11A, T53-L-11B, T53-L-11C, T53-L-11D, T53-L-11A S/SA, T53-L-13B, T53-L-13B S/SA, T53-L-13B S/SB, and T53-L-703 series turboshaft engines. This proposal would require initial and repetitive special vibration tests of the engine, and if necessary replacement with a serviceable reduction gearbox assembly, or a serviceable engine before further flight. This proposal is prompted by reports of tachometer drive spur gear failure, resulting in potential engine overspeed, loss of power turbine speed (N2) instrument panel indication, and hard landings. The actions specified in this AD are intended to prevent excessive vibrations produced by the reduction gearbox assembly that could cause failure of the tachometer drive spur gear.

DATES: Comments must be received by August 14, 2001.

ADDRESSES: Submit comments in triplicate to the Federal Aviation Administration (FAA), New England Region, Office of the Regional Counsel, Attention: Rules Docket No. 2000-NE-34-AD, 12 New England Executive Park, Burlington, MA 01803-5299. Comments may also be sent via the Internet using the following address: 9-ane-adcomment@faa.gov.” Comments sent via the Internet must contain the docket number in the subject line. Comments may be inspected at this location between 8:00 a.m. and 4:30 p.m., Monday through Friday, except Federal holidays. The service information referenced in the proposed rule may be obtained from Honeywell International, Inc. (formerly AlliedSignal, Inc. and Textron Lycoming), Attn: Data Distribution, M/S 64-3/2101-201, P.O. Box 29003, Phoenix, AZ 85038-9003; telephone: (602) 365-2493; fax: (602) 365-5577. This information may be examined at the FAA, New England Region, Office of the Regional Counsel, 12 New England Executive Park, Burlington, MA.

FOR FURTHER INFORMATION CONTACT: Robert Baitoo, Aerospace Engineer, Los Angeles Aircraft Certification Office, FAA, Transport Airplane Directorate, 3960 Paramount Blvd., Lakewood, CA 90712-4137; telephone: (562) 627-5245; fax: (562) 627-5210.

SUPPLEMENTARY INFORMATION:

Comments Invited

Interested persons are invited to participate in the making of the proposed rule by submitting such written data, views, or arguments as they may desire. Communications should identify the Rules Docket number and be submitted to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NE-34-AD.” The postcard will be date stamped and returned to the commenter.

Availability of NPRM's

Any person may obtain a copy of this NPRM by submitting a request to the FAA, New England Region, Office of the Regional Counsel, Attention: Rules Docket No. 2000-NE-34-AD, 12 New England Executive Park, Burlington, MA 01803-5299.

Discussion

The FAA has received reports of tachometer drive spur gear failure, resulting in potential engine overspeed, loss of N2 instrument panel indication, and hard landings. There have been about 22 events on military aircraft, and two events reported to date on civilian aircraft. This condition, if not corrected, could result in tachometer drive spur gear failure, resulting in potential engine overspeed, loss of N2 instrument panel indication, and hard landings.

Manufacturer's Service Information

The FAA has reviewed and approved AlliedSignal, Inc. Service Bulletin (SB) No.”s T5311A/B-0100, dated January 20, 2000; T5313B/17-0100, dated November 19, 1999; T53-L-11-0100, dated January 20, 2000; T53-L-13B-0100, Revision 2, dated May 11, 1999; and T53-L-703-0100, Revision 2, dated May 11, 1999. These SB's describe procedures for performing engine special vibration tests.

FAA's Determination of an Unsafe Condition and Proposed Actions

Since an unsafe condition has been identified that is likely to exist or develop on other Honeywell International, Inc., (formerly AlliedSignal, Inc., and Textron Lycoming) T5311A, T5311B, T5313B, T5317A, T5317B, and former military T53-L-11, T53-L-11A, T53-L-11B, T53-L-11C, T53-L-11D, T53-L-11A S/SA, T53-L-13B, T53-L-13B S/SA, T53-L-13B S/SB, and T53-L-703 turboshaft engines of this same type design, the proposed AD would require initial and repetitive special vibration tests of the engine, and if necessary, replacement with a serviceable reduction gearbox assembly, or a serviceable engine before further flight. The actions would be required to be accomplished in accordance with the service bulletins described previously.

Economic Impact

There are about 4,500 engines of the affected design in the worldwide fleet. The FAA estimates that 300 engines installed on aircraft of U.S. registry would be affected by this proposed AD, and that it would take about four work hours per engine to accomplish each special vibration test, and that the average labor rate is $60 per work hour. Based on these figures, for each special vibration test, the total labor cost impact on U.S. operators is estimated to be $240 per engine. The FAA estimates that operators, on average, will perform ten special vibration tests per year, resulting in a total annual cost on U.S. operators of $720,000.

Regulatory Impact

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Honeywell International, Inc.: Docket No. 2000-NE-34-AD.

Applicability

This airworthiness directive (AD) is applicable to Honeywell International, Inc., (formerly AlliedSignal, Inc., and Textron Lycoming) T5311A, T5311B, T5313B, T5317A, T5317B, and former military T53-L-11, T53-L-11A, T53-L-11B, T53-L-11C, T53-L-11D, T53-L-11A S/SA, T53-L-13B, T53-L-13B S/SA, T53-L-13B S/SB, and T53-L-703 turboshaft engines. These engines are installed on, but not limited to Bell Helicopter Textron 204, 205, and 209 series, and Kaman K-1200 series helicopters, and the following surplus military helicopters that have been certified in accordance with sections 21.25 or 21.27 of the Federal Aviation Regulations (14 CFR 21.25 or 21.27): Bell Helicopter Textron manufactured AH-1, HH-43, TH-1, UH-1 and SW-204/205 (UH-1) series.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Compliance with this AD is required as indicated below, unless already done.

To prevent excessive vibrations produced by the reduction gearbox assembly that could cause failure of the tachometer drive spur gear, do the following:

Initial and Repetitive Special Vibration Tests.

(a) Perform an initial special vibration test of the engine in accordance with the applicable service bulletin (SB) listed in the following table, within 100 flight hours after the effective date of this AD.

AlliedSignal SB's for Special Vibration Tests
Engine | SB's
T5311A and T5311B | T5311A/B-0100, dated January 20, 2000.
T5313B, T5317A, and T5317B | T5313B/17-0100, dated November 19, 1999.
T53-L-11, -11A, -11B, -11C, -11D, and -11A S/SA | T53-L-11-0100, dated January 20, 2000.
T53-L-13B, -13B S/SA, and -13B S/SB | T53-L-13B-0100, Revision 2, dated May 11,1999.
T53-L-703 | T53-L-703-0100, Revision 2, dated May 11, 1999.

(b) Perform repetitive special vibration tests of the engine in accordance with the applicable SB listed in the table of this AD, as follows:

(1) For engines that have tachometer drive spur gear part number (P/N) 1-070-062-04 installed, perform repetitive special vibration tests within 500 flight hours since the last special vibration test.

(2) For engines that have tachometer drive spur gear P/N 1-070-062-06 installed, perform repetitive special vibration tests within 1,000 flight hours since the last special vibration test.

Engines That Fail Special Vibration Tests

(c) For engines that fail a special vibration test performed in accordance with paragraph (a) or (b) of this AD, do EITHER of the following:

(1) Replace the gearbox assembly with a serviceable reduction gearbox assembly, and before further flight perform an initial special vibration test as specified in paragraph (a) of this AD. OR

(2) Replace the engine with a serviceable engine, and before further flight perform an initial special vibration test as specified in paragraph (a) of this AD.

Alternative Methods of Compliance

(d) An alternative method of compliance or adjustment of the compliance time that provides an acceptable level of safety may be used if approved by the Manager, Los Angeles Aircraft Certification Office (ACO). Operators shall submit their requests through an appropriate FAA Principal Maintenance Inspector, who may add comments and then send it to the Manager, Los Angeles ACO.

Note 2: Information concerning the existence of approved alternative methods of compliance with this airworthiness directive, if any, may be obtained from the Los Angeles ACO.

Special Flight Permits

(e) Special flight permits may be issued in accordance with sections 21.197 and 21.199 of the Federal Aviation Regulations (14 CFR 21.197 and 21.199) to operate the aircraft to a location where the special vibration tests and engine replacement requirements of this AD can be accomplished.

Issued in Burlington, Massachusetts, on June 1, 2001.
Francis A. Favara,
Acting Manager, Engine and Propeller Directorate, Aircraft Certification Service.

[FR Doc. 01-15091 Filed 6-14-01; 8:45 am]

BILLING CODE 4910-13-P